INTERNATIONAL TRADE COMMISSION

[Investigation Nos. 701-TA-450 and 731-TA-1122 (Preliminary)]

Laminated Woven Sacks From China

Determinations

On the basis of the record ¹ developed in the subject investigations, the United States International Trade Commission (Commission) determines, pursuant to sections 703(a) and 733(a) of the Tariff Act of 1930 (19 U.S.C. 1671b(a) and 1673b(a)) (the Act), that there is a reasonable indication that the establishment of an industry in the United States is materially retarded by reason of imports from China of laminated woven sacks, provided for in subheading 6305.33.0020 of the Harmonized Tariff Schedule of the United States, that are alleged to be sold in the United States at less than fair value (LTFV) and to be subsidized by the Government of China.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of these investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 28, 2007, a petition was filed with the Commission and Commerce by the Laminated Woven Sacks Committee, an ad hoc committee composed of five U.S. producers of laminated woven sacks, alleging that the establishment of an industry in the United States is materially retarded, or that an industry in the United States is materially injured or threatened with material injury by reason of LTFV and subsidized imports of laminated woven sacks from China. Members of the Laminated Woven Sacks Committee include: (1) Bancroft Bag, Inc. of West Monroe, LA; (2) Coating Excellence International, LLC of Wrightstown, WI; (3) Hood Packaging Corp. of Madison, MS; (4) Mid-America Packaging, LLC of Twinsburg, OH; and (5) Polytex Fibers Corp. of Houston, TX. Accordingly, effective June 28, 2007, the Commission instituted antidumping and countervailing duty investigation Nos. 701-TA-450 and 731-TA-1122 (Preliminary).

Notice of the institution of the Commission's investigations and of a public conference to be held in connection therewith was given by posting copies of the notice in the Office of the Secretary, U.S. International Trade Commission, Washington, DC, and by publishing the notice in the Federal Register of July 5, 2007 (72 FR 36720). The conference was held in Washington, DC, on July 19, 2007, and all persons who requested the opportunity were permitted to appear in person or by counsel.

The Commission transmitted its determinations in these investigations to the Secretary of Commerce on August 13, 2007. The views of the Commission are contained in USITC Publication 3942 (August 2007), entitled Laminated Woven Sacks from China: Investigation Nos. 701-TA-450 and 731-TA-1122 (Preliminary).

By order of the Commission.
Issued: August 14, 2007.
Marilyn R. Abbott,
Secretary to the Commission.

[FR Doc. E7-16224 Filed 8-16-07; 8:45 am]

BILLING CODE 7020-02-P